DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2013, there were four applications approved. Additionally, five approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Port of Pasco, Pasco, Washington.

Application Number: 13-09-C-00-PSC.

Application Type: Impose and use a PFC.

PFC Level: $4.50.

Total PFC Revenue Approved in This Decision: $7,140,000.

Earliest Charge Effective Date: April 1, 2022.

Estimated Charge Expiration Date: October 1, 2027.

Class of Air Carriers Not Required To Collect PFC's: None.

Brief Description of Projects Approved for Collection and Use:

Rehabilitate taxiway D—design.

Install/relocate VHF Omnidirectional Range (VOR)—design.

PFC administration fees.

Brief Description of Project Approved for Collection:

Expand terminal building.

Decision Date: January 2, 2013.

FOR FURTHER INFORMATION CONTACT: Trang Tran, Seattle Airports District Office, (425) 227-1662.

Public Agency: City of Fayetteville, North Carolina.

Application Number: 13-05-C-00-FAY.

Application Type: Impose and use a PFC.

PFC Level: $4.00.

Total PFC Revenue Approved in This Decision: $1,575,744.

Earliest Charge Effective Date: March 1, 2013.

Estimated Charge Expiration Date: June 1, 2013.

Class of Air Carriers Not Required To Collect PFC's: None.

Brief Description of Projects Approved for Collection and Use:

Replace B4 jetbridge.

Taxiway A rehabilitation—design.

Construct taxiway A rehabilitation.

Rehabilitate air carrier apron phase II—design.

Air carrier apron rehabilitation phase I construction.

Runway 4 runway safety area improvements—design.

Taxiway A extension—design.

Runway 4 runway safety area improvements—construction.

Taxiway A extension—construction.

Paved shoulders—design.

FAA reimbursable agreement Medium Intensity Approach Lighting System with Runway Alignment (MALSR) modification.

Design and construct wildlife/security fencing.

Brief Description of Disapproved Projects:

Air carrier apron rehabilitation II—construction.

Runway 4/22 paved shoulders—construction.

Avigation easement acquisition, runway 4 runway protection zone.

Determination: Disapproved. Projects do not meet the requirements of § 158.33(e). General aviation auto parking (non-revenue).

Determination: Disapproved. Project does not meet the requirements of § 158.15(b).

Decision Date: January 3, 2013.

FOR FURTHER INFORMATION CONTACT: Robert Rau, Atlanta Airports District Office, (404) 305-7004.

Public Agency: Springfield Airport Authority, Springfield, Illinois.

Application Number: 13-13-C-00-SPI.

Application Type: Impose and use a PFC.

PFC Level: $4.50.

Total PFC Revenue Approved in This Decision: $1,312,713.

Earliest Charge Effective Date: July 1, 2016.

Estimated Charge Expiration Date: July 1, 2021.

Class of Air Carriers Not Required To Collect PFC's: On-demand air taxis.

Determination: Approved. Based on information submitted in the public agency's application, the FAA has determined that the approved class accounts for less than 1 percent of the total annual enplanements at Abraham Lincoln Capital Airport.

Brief Description of Projects Approved for Collection and Use:

Acquire land for approach protection—White property.

Acquire land for airport development—Spencer property.

Acquire land for approach protection—Sosman property.

Acquire land for approach protection—Hastie property.

Acquire land for airport development—Turley property.

Acquire aircraft rescue and firefighting twin agent extinguishing skid unit and equipment.

Acquire snow removal equipment—runway plow truck, chemical spreader, front end loader, plow truck, and skidsteer tractor with front loader.

Extend taxiway Y—design and construct.

Modify and realign east perimeter road—design and construct.

Widen, reconfigure, and rehabilitate taxiway B—design and construct.

Modify and realign south perimeter road—design and construct.

Rehabilitate t-hangar taxiways.

Construct and design snow removal equipment building—phase 3.

Widen, reconfigure, and rehabilitate taxiway B—design and construct, phase 2.

Conduct preliminary study—federal inspection station.

Flight information display and emergency information notification system and public address system upgrades for passenger terminal.

Decision Date: January 10, 2013.

FOR FURTHER INFORMATION CONTACT: Chad Oliver, Chicago Airports District Office, (847) 294-7199.

Public Agency: City of Duluth, Minnesota.

Applications Number: 13-11-C-00-DLH.

Application Type: Impose and use a PFC.

PFC Level: $4.50.

Total PFC Revenue Approved in This Decision: $1,011,096.

Earliest Charge Effective Date: February 1, 2019.

Estimated Charge Expiration Date: October 1, 2020.

Class of Air Carriers Not Required To Collect PFC's: Non-scheduled air taxi/commercial operators.

Determination: Approved. Based on information submitted in the public agency's application, the FAA has determined that the approved class accounts for less than 1 percent of the total annual enplanements at Duluth International Airport.

Brief Description of Projects Approved for Collection and Use:

Preparation of PFC 11 notice of intent and PFC 10 amendment.

Construct passenger terminal replacement: geothermal and gate electrification.

Construct passenger terminal replacement: overhead skywalk.

Decision Date: January 16, 2013.

FOR FURTHER INFORMATION CONTACT: Gordon Nelson, Minneapolis Airports District Office, (612) 253-4633.

Amendments to PFC Approvals
Amendment No., City, State | Amendment approved date | Original approved net PFC revenue | Amended approved net PFC revenue | Original estimated charge exp. date | Amended estimated charge exp. date
11-10-C-01-DLH, Duluth, MN | 01/07/13 | $1,639,571 | $4,270,190 | 11/01/14 | 02/01/19
09-07-C-03-GRK, Killeen, TX | 01/09/13 | 3,125,711 | 3,122,284 | 04/01/13 | 04/01/13
09-13-C-02-MCO, Orlando, FL | 01/18/13 | 227,788,000 | 227,788,000 | 10/01/25 | 10/01/25
11-14-C-01-MCO, Orlando, FL | 01/18/13 | 26,952,400 | 28,452,400 | 06/01/26 | 06/01/26
09-09-C-02-EAT, Wenatchee, WA | 01/23/13 | 104,916 | 102,027 | 04/01/10 | 04/01/10

Issued in Washington, DC, on September 4, 2013.
Joe Hebert,
Manager, Financial Analysis and Passenger Facility Charge Branch.

[FR Doc. 2013-22564 Filed 9-16-13; 8:45 am]

BILLING CODE 4910-13-P